DEPARTMENT OF COMMERCE

National Oceanic and Atmospheric Administration

[I.D. 053003A]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on June 18-20, 2003. See SUPPLEMENTARY INFORMATION for specific dates and times.

ADDRESSES: The meetings will be held at the Buccaneer Hotel, #7 Estate Shoys, Christiansted, St. Croix, USVI.

FOR FURTHER INFORMATION CONTACT: Caribbean Fishery Management Council, 268 Munoz Rivera Avenue, Suite 1108, San Juan, Puerto Rico 00918-1920, telephone: (787) 766-5926.

SUPPLEMENTARY INFORMATION: The Council will convene on Wednesday, June18th, 2003, from 9 a.m. to 4 p.m., and the Administrative Committee will meet from 4:15 p.m. to 5:30 p.m. The Council will reconvene on Thursday, June 19, 2003, from 9 a.m. to 5 p.m., approximately, and Friday, June 20, 2003, from 9 a.m. to 5 p.m. The Council will hold its 112th regular public meeting to discuss the items contained in the following agenda:

June 28, 2003

9 a.m. - 4 p.m.

Call to Order

Adoption of Agenda

Consideration of 111th Council Meeting Verbatim Minutes

Executive Director's Report

Queen Conch Geographic Information System (GIS) - Dr. M. Barreto

Culebra's Marine Reserve Survey - Dr. Edwin Hernandez

Updates

-Marine Conservation District (MCD) Mapping Project - Jose Rivera

-MCD Photographic Survey - Graciela Garcia-Moliner

-Hydro-acoustic Survey - Jose Rivera and Aida Rosario

-West Coast of Puerto Rico Side Scan Sonar Projects - Aida Rosario

Essential Fish Habitat- Draft Environmental Impact Statement (EFH-DEIS) - Bob Trumble

4:15 p.m. - 5:30 p.m.

Administrative Committee Meeting

-Advisory Panel (AP)/Scientific and Statistical Committee/Habitat AP Membership

-Budget: 2002, 2003, 2004-5

-Queen Conch Initiative—Projects for Education and Scientific Literature

-Personnel Issues and Statement of Organization Practices and Procedures

-Other Business

June 19, 2003

9 a.m. - 5 p.m.

EFH/DEIS Continuation of Discussio

-Schedule for the submission of EFH/DEIS

June 20, 2003

9 a.m. - 12 noon

NOAA Fisheries 2003 Constituents Session - Dr. W. Hogarth

1 p.m. to 5 p.m.

Enforcement

-Federal Government

-Puerto Rico

-U.S. Virgin Islands

-U.S. Coast Guard

Administrative Committee Recommendations

Meetings Attended by Council Members and Staff

Other Business

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-2577, telephone: (787) 766-5926, at least 5 days prior to the meeting date.

Dated: May 30, 2003.
Richard W. Surdi,
Acting Director, Office of Sustainable Fisheries, National Marine Fisheries Service.

[FR Doc. 03-14042 Filed 6-3-03; 8:45 am]

BILLING CODE 3510-22-S